DEPARTMENT OF HOMELAND SECURITY

Coast Guard

[Docket No. USCG-2016-1050]

Towing Safety Advisory Committee; Vacancies

AGENCY: Coast Guard, Department of Homeland Security.

ACTION: Request for applications.

SUMMARY: The Coast Guard seeks applications for membership on the Towing Safety Advisory Committee. This Committee advises the Secretary of the Department of Homeland Security on matters relating to shallow draft inland and coastal waterway navigation and towing safety.

DATES: Completed applications should reach the Coast Guard on or before March 9, 2017.

ADDRESSES: Applicants should send a cover letter expressing interest in an appointment to the Towing Safety Advisory Committee that also identifies which membership category the applicant is applying under, along with a resume detailing the applicant's experience via one of the following methods:

• By Email: William.J.Abernathy@uscg.mil

• By Fax: 202-372-8379 ATTN: William Abernathy

• By Mail: William J. Abernathy, Alternate Designated Federal Officer, Commandant (CG-OES-2), U.S. Coast Guard Stop 7509, 2703 Martin Luther King Jr Ave SE., Washington, DC 20593-7509

FOR FURTHER INFORMATION CONTACT: William J. Abernathy, Alternate Designated Federal Officer of the Towing Safety Advisory Committee; Telephone 202-372-1363; or Email at William.J.Abernathy@uscg.mil.

SUPPLEMENTARY INFORMATION: The Towing Safety Advisory Committee is a federal advisory committee which operates under the provisions of the Federal Advisory Committee Act, (Title 5, United States Code, Appendix). It was established under authority of the Act to establish a Towing Safety Advisory Committee in the Department of Transportation, (Pub. L. 96-380), which was recently amended by section 621 of the Coast Guard Authorization Act of 2010, (Pub. L. 111-281). The Committee advises the Secretary of Homeland Security on matters relating to shallow-draft inland and coastal waterway navigation and towing safety. This advice also assists the Coast Guard in formulating the position of the United States regarding the towing industry in advance of International Maritime Organization meetings.

It is expected that the committee will meet at least twice a year either in the Washington, DC, area or in cities with large towing centers of commerce and populated by high concentrations of towing industry and related businesses. It may also meet for extraordinary purposes. Its subcommittees may also meet to consider specific tasks as required. The Committee and its subcommittees may conduct intercessional telephonic meetings when necessary, in response to specific U.S. Coast Guard tasking.

Each Towing Safety Advisory Committee member serves a term of office of up to 3 years. Members may be considered to serve an additional consecutive term. All members serve without compensation from the Federal Government; however, upon request, they may receive travel reimbursement and per diem.

We will consider applications for the following seven positions. The first position listed is currently vacant, and the rest will become vacant on September 30, 2017:

1. One position representing the holders of active licensed Masters of towing vessels in offshore service;

2. Two positions representing the Barge and Towing Industry (reflecting a regional geographical balance);

3. One position representing port districts, port authorities or terminal operators;

4. One position representing holders of active licensed Masters or Pilots of towing vessels with experience on the Western Rivers and the Gulf Intracoastal Waterway;

5. One position representing active Masters of ship-docking or harbor towing vessels; and,

6. One position drawn from the general public.

To be eligible, applicants should have particular expertise, knowledge, and experience regarding shallow-draft inland, coastal waterway navigation, offshore navigation, and towing safety.

Registered lobbyists are not eligible to serve on federal advisory committees in an individual capacity. See “Revised Guidance on Appointment of Lobbyists to Federal Advisory Committees, Boards and Commissions” (79 FR 47482, August 13, 2014). The position we list for a member from the general public would be someone appointed in their individual capacity and would be designated as a Special Government Employee as defined in 202(a), Title 18, U.S.C. Registered lobbyists are lobbyists as defined in 2 U.S.C. 1602 who are required by 2 U.S.C. 1603 to register with the Secretary of the Senate and the Clerk of the House of Representatives.

If you are selected as a member drawn from the general public, you will be appointed and serve as a Special Government Employee as defined in section 202(a) of Title 18, United States Code. As a candidate for appointment as a Special Government Employee, applicants are required to complete a Confidential Financial Disclosure Report (OGE Form 450). The Coast Guard may not release the reports or the information in them to the public except under an order issued by a Federal court or as otherwise provided under the Privacy Act (5 U.S.C. 552a). Only the Designated Coast Guard Ethics Official or his or her designee may release a Confidential Financial Disclosure Report. Applicants can obtain this form by going to the Web site of the Office of Government Ethics (www.oge.gov), or by contacting the individual listed above in FOR FURTHER INFORMATION CONTACT. Applications for a member drawn from the general public that are not accompanied by a completed OGE Form 450 will not be considered.

In an effort to maintain a geographic balance of membership, we are encouraging representatives from tug and barge companies operating on the Western Rivers to apply for representation on the Committee.

The Department of Homeland Security does not discriminate in selection of Committee members on the basis of race, color, religion, sex, national origin, political affiliation, sexual orientation, gender identity, marital status, disabilities and genetic information, age, membership in an employee organization, or any other non-merit factor. The Department of Homeland Security strives to achieve a widely diverse candidate pool for all of its recruitment selections.

If you are interested in applying to become a member of the Committee, send your cover letter and resume to William J. Abernathy, Alternate Designated Federal Officer of the Towing Safety Advisory Committee via one of the transmittal methods in the ADDRESSES section by the deadline in the DATES section of this notice. All email submittals will receive email receipt confirmation.

Dated: December 19, 2016.
J.G. Lantz,
Director of Commercial Regulations and Standards.

[FR Doc. 2017-01324 Filed 1-19-17; 8:45 am]

BILLING CODE 9110-04-P